DEPARTMENT OF COMMERCE

International Trade Administration

[A-570-071]

Sodium Gluconate, Gluconic Acid, and Derivative Products From the People's Republic of China: Final Results of Expedited First Sunset Review of the Antidumping Duty Order

AGENCY: Enforcement and Compliance, International Trade Administration, Department of Commerce.

SUMMARY: The U.S. Department of Commerce (Commerce) finds that revocation of the antidumping duty (AD) order on sodium gluconate, gluconic acid, and derivative products (sodium gluconate) from the People's Republic of China (China) would likely lead to continuation or recurrence of dumping at the levels indicated in the “Final Results of Sunset Review” section of this notice.

DATES: Applicable February 2, 2024.

FOR FURTHER INFORMATION CONTACT: Stephanie Trejo, AD/CVD Operations, Office IV, Enforcement and Compliance, International Trade Administration, U.S. Department of Commerce, 1401 Constitution Avenue NW, Washington, DC 20230; telephone: (202) 482-4390.

SUPPLEMENTARY INFORMATION:

Background

On November 13, 2018, Commerce published the AD order on sodium gluconate from China.¹ On October 2, 2023, Commerce initiated the first sunset review of the Order, pursuant to section 751(c) of the Tariff Act of 1930, as amended (the Act),² and subsequently, a domestic interested party ³ timely submitted its complete notice of intent to participate ⁴ and adequate substantive response regarding this review.⁵ The domestic interested party claimed interested party status under section 771(9)(C) of the Act as a producer of the domestic like product in the United States.⁶ Commerce did not receive a substantive response from any respondent interested party, nor was a hearing requested. On November 17, 2023, Commerce notified the U.S. International Trade Commission (ITC) that it did not receive adequate substantive responses from respondent interested parties.⁷ As a result, pursuant to section 751(c)(3)(B) of the Act and 19 CFR 351.218(e)(1)(ii)(C)(2), Commerce conducted an expedited (120-day) sunset review of the Order.

¹ See Sodium Gluconate, Gluconic Acid and Derivative Products from the People's Republic of China: Antidumping and Countervailing Duty Orders, 83 FR 56299 (November 13, 2018) (Order).

² See Initiation of Five-Year (Sunset) Reviews, 88 FR 67729 (October 2, 2023).

³ The domestic interested party is PMP Fermentation Products, Inc.

⁴ See Domestic Interested Party's Letter, “Sodium Gluconate, Gluconic Acid and Derivative Products from the People's Republic of China—Domestic Interested Parties' Notice of Intent to Participate,” dated October 12, 2023.

⁵ See Domestic Interested Party's Letter, “Sodium Gluconate, Gluconic Acid and Derivative Products from the People's Republic of China”—Domestic Interested Parties' Substantive Response,” dated November 1, 2023.

⁶ Id.

⁷ See Commerce's Letter “Sunset Reviews Initiated on October 2, 2023,” dated November 17, 2023.

Scope of the Order

The product covered by the Order is sodium gluconate from China. For a complete description of the scope of the Order, see the Issues and Decision Memorandum.⁸

⁸ See Memorandum, “Issues and Decision Memorandum for the Final Results of the Expedited First Sunset Review of the Antidumping Duty Order on Sodium Gluconate, Gluconic Acid, and Derivative Products from the People's Republic of China,” dated concurrently with, and hereby adopted by, this notice (Issues and Decision Memorandum).

Analysis of Comments Received

A complete discussion of all issues raised in this review, including the likelihood of continuation or recurrence of dumping and the magnitude of the dumping margins likely to prevail if the Order were revoked, is provided in the Issues and Decision Memorandum.⁹ A list of the topics in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁹ Id.

Final Results of Sunset Review

Pursuant to sections 751(c)(1), 752(c)(1) and (3) of the Act, Commerce determines that revocation of the Order would likely lead to continuation or recurrence of dumping, and that the magnitude of the dumping margin likely to prevail would be up to 213.15 percent.¹⁰

¹⁰ Id. at 9.

Administrative Protective Order

This notice serves as the only reminder to interested parties subject to an administrative protective order (APO) of their responsibility concerning the return/destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing these final results of sunset reviews in accordance with sections 751(c), 752(c), and 777(i)(1) of the Act, and 19 CFR 351.218(e)(1)(ii)(C)(2) and 19 CFR 351.221(c)(5)(ii).

Dated: January 29, 2024.
Abdelali Elouaradia,
Deputy Assistant Secretary for Enforcement and Compliance.

Appendix

Sections in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Sunset Review

VIII. Recommendation

[FR Doc. 2024-02117 Filed 2-1-24; 8:45 am]

BILLING CODE 3510-DS-P